DEPARTMENT OF ENERGY

Federal Energy Regulatory Commission

Combined Notice of Filings

January 23, 2009.

Take notice that the Commission has received the following Natural Gas Pipeline Rate and Refund Report filings:

Docket Numbers: RP09-133-002.

Applicants: Columbia Gas Transmission Corporation.

Description: Columbia Gas Transmission Corporation submits Substitute Sixth Revised Sheet 405 et al to FERC Gas Tariff, Second Revised Volume 1.

Filed Date: 01/16/2009.

Accession Number: 20090121-0176.

Comment Date: 5 p.m. Eastern Time on Wednesday, January 28, 2009.

Docket Numbers: RP09-156-001.

Applicants: Transwestern Pipeline Company, LLC.

Description: Transwestern Pipeline Company LLC submits Substitute Second Revised Sheet 181 to FERC Gas Tariff, Third Revised Volume 1.

Filed Date: 01/16/2009.

Accession Number: 20090121-0177.

Comment Date: 5 p.m. Eastern Time on Wednesday, January 28, 2009.

Docket Numbers: RP09-215-000.

Applicants: Transcontinental Gas Pipe Line Company.

Description: Transcontinental Gas Pipe Line Company, LLC submits First Revised Sheet 5 et al to FERC Gas Tariff, Fourth Revised Volume 1.

Filed Date: 01/15/2009.

Accession Number: 20090121-0092.

Comment Date: 5 p.m. Eastern Time on Tuesday, January 27, 2009.

Docket Numbers: RP09-216-000.

Applicants: Questar Pipeline Company.

Description: Questar Pipeline Company submits First Revised Sheet 69A et al to FERC Gas Tariff, First Revised Volume 1.

Filed Date: 01/15/2009.

Accession Number: 20090121-0093.

Comment Date: 5 p.m. Eastern Time on Tuesday, January 27, 2009.

Docket Numbers: RP09-217-000.

Applicants: Northern Natural Gas Company.

Description: Northern Natural Gas Company submits Eleventh Revised Sheet 1 et al to FERC Gas Tariff, Fifth Revised Volume 1, to be effective 2/15/09.

Filed Date: 01/15/2009.

Accession Number: 20090121-0094.

Comment Date: 5 p.m. Eastern Time on Tuesday, January 27, 2009.

Docket Numbers: RP09-218-000.

Applicants: Great Lakes Gas Transmission L.P.

Description: Great Lakes Gas Transmission Limited Partnership submits Seventh Revised Sheet 39 et al to FERC Gas Tariff, Second Revised Volume 1.

Filed Date: 01/16/2009.

Accession Number: 20090121-0175.

Comment Date: 5 p.m. Eastern Time on Wednesday, January 28, 2009.

Docket Numbers: RP09-219-000.

Applicants: Venice Gathering System, LLC.

Description: Venice Gathering System, LLC submits a Petition for a Limited Waiver of Tariff Provisions.

Filed Date: 01/16/2009.

Accession Number: 20090121-0174.

Comment Date: 5 p.m. Eastern Time on Wednesday, January 28, 2009.

Docket Numbers: RP09-220-000.

Applicants: Blue Lake Gas Storage Company.

Description: Blue Lake Gas Storage Company submits Appendix A to FERC Gas Tariff, First Revised Volume 1.

Filed Date: 01/16/2009.

Accession Number: 20090121-0172.

Comment Date: 5 p.m. Eastern Time on Wednesday, January 28, 2009.

Docket Numbers: RP09-221-000.

Applicants: ANR Storage Company.

Description: ANR Storage Company submits Appendix A to FERC Gas Tariff, Original Volume 1.

Filed Date: 01/16/2009.

Accession Number: 20090121-0180.

Comment Date: 5 p.m. Eastern Time on Wednesday, January 28, 2009.

Docket Numbers: RP09-222-000.

Applicants: ANR Pipeline Company.

Description: ANR Pipeline Company submits Appendix A to FERC Gas Tariff, Second Revised Volume 1.

Filed Date: 01/16/2009.

Accession Number: 20090121-0179.

Comment Date: 5 p.m. Eastern Time on Wednesday, January 28, 2009.

Docket Numbers: RP09-223-000.

Applicants: Williston Basin Interstate Pipeline Company.

Description: Williston Basin Interstate Pipeline Company submits its Ninth Revised Sheet 373 et al to FERC Gas Tariff, Second Revised Volume 1, to be effective 2/16/09.

Filed Date: 01/16/2009.

Accession Number: 20090121-0178.

Comment Date: 5 p.m. Eastern Time on Wednesday, January 28, 2009.

Docket Numbers: RP09-224-000.

Applicants: Northern Border Pipeline Company.

Description: Northern Border Pipeline Company submits Twentieth Revised Sheet 99A et al to FERC Gas Tariff, First Revised Volume 1.

Filed Date: 01/16/2009.

Accession Number: 20090121-0173.

Comment Date: 5 p.m. Eastern Time on Wednesday, January 28, 2009.

Docket Numbers: RP09-225-000.

Applicants: Petal Gas Storage, L.L.C.

Description: Petal Gas Storage, LLC submits Second Revised Sheet 11A et al to FERC Gas Tariff, Original Volume 1.

Filed Date: 01/21/2009.

Accession Number: 20090122-0214.

Comment Date: 5 p.m. Eastern Time on Monday, February 2, 2009.

Docket Numbers: RP09-226-000.

Applicants: High Island Offshore System, L.L.C.

Description: High Island Offshore System, LLC submits Fifth Revised Sheet 123A et al to FERC Gas Tariff, Third Revised Volume 1.

Filed Date: 01/21/2009.

Accession Number: 20090122-0215.

Comment Date: 5 p.m. Eastern Time on Monday, February 2, 2009.

Docket Numbers: RP09-227-000.

Applicants: Northwest Pipeline GP.

Description: Northwest Pipeline GP submits Second Revised Sheet 5C et al to FERC Gas Tariff, Fourth Revised Volume 1.

Filed Date: 01/21/2009.

Accession Number: 20090122-0216.

Comment Date: 5 p.m. Eastern Time on Monday, February 2, 2009.

Docket Numbers: RP09-228-000.

Applicants: Sabine Pipe Line LLC.

Description: Sabine Pipe Line LLC submits Fourth Revised Sheet 250 et al to FERC Gas Tariff, Original Volume 1.

Filed Date: 01/21/2009.

Accession Number: 20090122-0217.

Comment Date: 5 p.m. Eastern Time on Monday, February 2, 2009.

Docket Numbers: RP09-229-000.

Applicants: Transcontinental Gas Pipe Line Company.

Description: Transcontinental Gas Pipeline Co, LLC submits Second Revised Sheet 24 to its FERC Gas Tariff, Fourth Revised Volume 1, to be effective 2/1/09.

Filed Date: 01/21/2009.

Accession Number: 20090122-0218.

Comment Date: 5 p.m. Eastern Time on Monday, February 2, 2009.

Docket Numbers: RP09-230-000.

Applicants: Sabine Pipe Line LLC.

Description: Sabine Pipe Line, LLC requests temporary waivers of FERC Gas Tariff, Second Revised Volume 1 etc for the dates of 1/30/09 and 1/31/09.

Filed Date: 01/21/2009.

Accession Number: 20090122-0219.

Comment Date: 5 p.m. Eastern Time on Monday, February 2, 2009.

Docket Numbers: RP09-231-000.

Applicants: Texas Gas Transmission, LLC.

Description: Texas Gas Transmission, LLC submits First Revised Sheet 1 et al to FERC Gas Tariff, Third Revised Volume 1, to be effective 3/1/09.

Filed Date: 01/21/2009.

Accession Number: 20090122-0220.

Comment Date: 5 p.m. Eastern Time on Monday, February 2, 2009.

Docket Numbers: RP09-232-000.

Applicants: Northern Natural Gas Company.

Description: Northern Natural Gas Co submits Seventh Revised Sheet 400 et al to FERC Gas Tariff, Fifth Revised Volume 1, to be effective 2/21/09.

Filed Date: 01/21/2009.

Accession Number: 20090122-0221.

Comment Date: 5 p.m. Eastern Time on Monday, February 2, 2009.

Docket Numbers: RP09-233-000.

Applicants: Northern Natural Gas Company.

Description: Northern Natural Gas Co submits Fourth Revised Sheet 216 et al to FERC Gas Tariff, Fifth Revised Volume 1, to be effective 2/21/09.

Filed Date: 01/21/2009.

Accession Number: 20090122-0222.

Comment Date: 5 p.m. Eastern Time on Monday, February 2, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-2152 Filed 1-30-09; 8:45 am]

BILLING CODE 6717-01-P